ELECTION ASSISTANCE COMMISSION

Sunshine Act Notice

AGENCY: U.S. Election Assistance Commission.

ACTION: Notice of public meeting.

Date & Time: Thursday, September 18, 2008, 9 a.m.-4 p.m.

Place: U.S. Election Assistance Commission, 1225 New York Ave, NW., Suite 150, Washington, DC 20005 (Metro Stop: Metro Center).

Agenda: Commissioners will hold a workshop discussion on Preparing for Election Day 2008 and Empowering Voters. Commissioners will consider and vote on whether to modify Advisory Opinion 07-003-A regarding Maintenance of Effort (MOE) funding, pursuant to HAVA, section 254(a)(7). Commissioners will consider and vote on a Proposed Replacement Advisory Opinion 07-003-B Regarding Maintenance of Effort. Commissioners will consider a Draft Policy for Notice and Public Comment; Commissioners will consider a Draft Policy for Joint Partnership Task Force of EAC and State Election Officials Regarding Spending of HAVA Funds; Commissioners will consider Proposed Administrative Regulations and receive an Update on Final Administrative Regulations. Commissioners will consider and vote on the Adoption of the Alternative Voting Methods Study. Commissioners will receive a briefing regarding the Best Practices to Ensure Voting Systems Perform Accurately and Securely on Election Day. Commissioners will receive an Update on the 2008 Requirements payments to States. Commissioners will consider comments received on the Draft EAC Guidance to States Regarding Updates to State Plans. The Commission will consider other administrative matters.

This meeting will be open to the public.

Person to Contact for Information: Bryan Whitener, Telephone: (202) 566-3100.

Thomas R. Wilkey,
Election Director, U.S. Election Assistance Commission.

[FR Doc. E8-20606 Filed 9-2-08; 4:15 pm]

BILLING CODE 6820-KF-P